DEPARTMENT OF THE INTERIOR

Bureau of Land Management

[NV-030-1610-DO-033F]

Notice of Intent To Prepare an Amendment to the Carson City Field Office Consolidated Resource Management Plan

AGENCY: Bureau of Land Management, Interior.

ACTION: Notice of Intent to conduct public scoping meetings and solicit scoping comments in the preparation of an Environmental Impact Statement and an amendment to the Carson City Field Office Consolidated Resource Management Plan.

SUMMARY: The Bureau of Land Management (BLM), Carson City Field Office, the Washoe Tribe of Nevada and California, the Yerington Paiute Tribe, Douglas County, Lyon County, Carson City, other State and Federal agencies, and interested citizens and organizations will jointly prepare an amendment to the Carson City Field Office Consolidated Resource Management Plan. The planning area is composed of approximately 400,000 acres of BLM-managed public land, Public Domain Individual Indian Allotments, and intermingled private lands in the Pine Nut Mountains, east of Carson City, Nevada. The Environmental Impact Statement, will analyze the impacts of the proposed plan amendment and alternatives.

Issues identified during preliminary internal BLM scoping include:

(1) Urban Interface Management, (2) Off Highway Vehicle Use and Management, (3) Recreation/Visual and Scenic Resources, (4) Lands and Land Tenure Issues, (5) Wildlife and Threatened and Endangered Species Management, (6) Livestock Management, (7) Wild Horse Population Management, (8) Fire Management, (9) Cultural Resource Management, (10) Native American Issues, (11) Minerals, (12) Air Quality, (13) Water Resources, (14) Soils and Noxious Weeds, (15) Special Areas, (16) Hazardous Wastes/Materials. State and Federal Agency resource specialists, Native Americans, and individuals with expertise in the disciplines and issues listed above will participate in preparation of this plan amendment.

DATES: Public participation opportunities will be provided by the collaborative nature of this planning process in addition to those prescribed by BLM planning and NEPA regulations. BLM has engaged a diverse group of local government representatives, State agency personnel, other Federal agencies, members of the Washoe Tribe and the Yerington Paiute Tribe, organizations, and interested citizens to jointly prepare the Pine Nut Mountain Plan Amendment. Public scoping meetings will be held in conjunction with the Douglas and Lyon County regularly scheduled County Commissioner meetings and the Carson City Board of Supervisors meetings. Public participation activities, including scoping meetings to identify issues and planning criteria, will be announced at least 15 days before the scheduled meeting in the local news media and notices sent to persons and parties on the mailing list. These meetings will be held in order to allow the public an opportunity to identify issues and concerns to be addressed in the plan amendment and environmental analysis. Scoping comments will be accepted until March 31, 2002, or 60 days from the publication of this notice, whichever is later. Scoping comments may be submitted during the public meetings or sent to: Field Office Manager, Bureau of Land Management, 5665 Morgan Mill Road, Carson City, NV 89701.

If you wish to withhold your name or street address from public review or from disclosure under the Freedom of Information Act, you must state this prominently at the beginning of your written comment. Such requests will be honored to the extent allowed by law. All submissions from organizations and businesses, and from individuals identifying themselves as representatives or officials of organizations or businesses, will be available for public inspection in their entirety.

FOR FURTHER INFORMATION CONTACT: For additional information, write to the Field Manager of the Carson City Field Office at the address listed in the DATES section of this notice, call or email Tom Crawford (BLM Team Leader) at (775) 885-6169, or Mike McQueen (BLM NEPA Coordinator) at (775) 885-6120.

SUPPLEMENTARY INFORMATION: The proposed plan amendment schedule is as follows:

Begin Public Scoping and Planning Criteria Review—January, 2002

Release Draft Plan Amendment/EIS for 90-day Public Review—April, 2003

Release Proposed Plan Amendment and Final EIS for 60-day Governor's Consistency

Review and concurrent 30-day public protest period—April, 2004

Issue Plan Amendment and Record of Decision—June, 2004

The Carson City Field Office Consolidated Resource Management Plan and the Pre-Plan Analysis and Project Management Plan for the Pine Nut mountains Plan Amendment are available at the Carson City Field Office.

Preliminary Planning Criteria

Preliminary planning criteria have been developed to ensure that the plan amendment is tailored to the issues identified and ensure that unnecessary data collection and analysis would be avoided. These criteria may change in response to public comment and coordination with State and local governments or other Federal agencies. The criteria developed for the Pine Nut Mountains Plan Amendment are described below.

1. Any lands located within the Pine Nut Mountains Planning Area administrative boundary, which are acquired by the BLM, will be managed in a manner consistent with the plan subject to any constraints associated with the acquisition.

2. The plan will recognize the State's responsibility to manage wildlife.

3. The plan will address transportation and access.

4. The planning process will involve Native American tribal governments and will provide strategies for the consideration of recognized traditional uses.

5. Decisions in the plan will strive to be consistent with the existing plans and policies of adjacent local, State, Tribal and Federal agencies, to the extent consistent with Federal law.

6. Plan will support BLM's noxious weed policy as outlined in the Partners Against Weeds document (January 1996) and the CCFO's Weed Prevention Schedule (1997).

7. GIS and metadata information will meet FGDC EO 12906 (June 8, 1994) standards.

Dated: December 11, 2001.
John O. Singlaub,
Field Office Manager.

[FR Doc. 02-10431 Filed 4-26-02; 8:45 am]

BILLING CODE 4310-HC-P